FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

⁶ The maximum penalty amount is per day, unless otherwise indicated.

⁷ 12 U.S.C. 1464(v) provides the maximum CMP amounts for the late filing of certain Call Reports. In 2012, however, the FDIC issued regulations that further subdivided these amounts based upon the size of the institution and the lateness of the filing. See 77 FR 74573, 74576 through 78 (Dec. 17, 2012), codified at 12 CFR 308.132(e)(1). These adjusted subdivided amounts are found at the end of this chart.

⁸ The maximum penalty amount for an institution is the lesser of this amount or 1 percent of total assets.

⁹ 12 U.S.C. 1817(a) provides the maximum CMP amounts for the late filing of certain Call Reports. In 1991, however, the FDIC issued regulations that further subdivided these amounts based upon the size of the institution and the lateness of the filing. See 56 FR 37968, 37992-93 (Aug. 9, 1991), codified at 12 CFR 308.132(e)(1). These adjusted subdivided amounts are found at the end of this chart.

¹⁰ The maximum penalty amount for an institution is the lesser of this amount or 1 percent of total assets.

¹¹ The maximum penalty amount for an institution is the lesser of this amount or 1 percent of total assets.

¹² The maximum penalty amount for an institution is the lesser of this amount or 1 percent of total assets.

¹³ These amounts also apply to CMPs in statutes that cross-reference 12 U.S.C. 1818, such as 12 U.S.C. 2601, 2804(b), 3108(b), 3349(b), 4009(a), 4309(a), 4717(b); 15 U.S.C. 1607(a), 1681s(b), 1691(b), 1691c(a), 1693o(a); and 42 U.S.C. 3601.

¹⁴ The maximum penalty amount for an institution is the lesser of this amount or 1 percent of total assets.

¹⁵ The $157-per-day maximum CMP under 12 U.S.C. 1828(h) for failure or refusal to pay any assessment applies only when the assessment is less than $10,000. When the amount of the assessment is $10,000 or more, the maximum CMP under section 1828(h) is 1 percent of the amount of the assessment for each day that the failure or refusal continues.

¹⁶ The maximum penalty amount for an institution is the lesser of this amount or 1 percent of total assets.

¹⁷ The maximum penalty amount for an institution is the greater of this amount or 1/100,000th of the institution's total assets.

¹⁸ The maximum penalty amount for an institution is the greater of this amount or 1/50,000th of the institution's total assets.

¹⁹ The maximum penalty amount for an institution is the lesser of this amount or 1 percent of total assets.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)).

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington DC 20551-0001, not later than February 13, 2025.

A. Federal Reserve Bank of Chicago (Colette A. Fried, Assistant Vice President) 230 South LaSalle Street, Chicago, Illinois 60690-1414. Comments can also be sent electronically to Comments.applications@chi.frb.org:

1. UIR Acceptance Corporation, Lemont, Illinois; to become a bank holding company by acquiring Easton Bancshares, Inc., and thereby indirectly acquiring Community Bank of Easton, both of Easton, Illinois.

Board of Governors of the Federal Reserve System.
Michele Taylor Fennell,
Associate Secretary of the Board.

[FR Doc. 2025-00599 Filed 1-13-25; 8:45 am]

BILLING CODE 6210-01-P